DEPARTMENT OF HEALTH AND HUMAN SERVICES

Health Resources and Services Administration

Agency Information Collection Activities: Submission to OMB for Review and Approval; Public Comment Request; Health Professions Student Loan Program, Loans for Disadvantaged Students Program, Primary Care Loan Program, and Nursing Student Loan Program Administrative Requirements, OMB No. 0915-0047—Revision

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than March 21, 2024.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: Health Professions Student Loan (HPSL) Program, Loans for Disadvantaged Students (LDS) Program, Primary Care Loan (PCL) Program, and Nursing Student Loan (NSL) Program Administrative Requirements, OMB No. 0915-0047—Revision.

Abstract: This clearance request is for approval of the HPSL Program, LDS Program, PCL Program, and NSL Program Administrative Requirements.

The HPSL Program, authorized by Public Health Service (PHS) Act sections 721-722 and 725-735, is a grant program where recipients provide long-term, low-interest loans to students attending schools of medicine, osteopathic medicine, dentistry, veterinary medicine, optometry, podiatric medicine, and pharmacy. The LDS Program, authorized by PHS Act sections 721-722 and 724-735, is a grant program where recipients provide long-term, low interest loans to certain students attending schools of allopathic medicine, osteopathic medicine, podiatric medicine, dentistry, optometry, pharmacy, and veterinary medicine. The PCL Program, authorized by PHS Act sections 721-723 and 725-735, is a grant program where recipients provide long-term, low interest loans to students attending schools of allopathic medicine and osteopathic medicine to practice primary health care. The NSL Program, authorized by PHS Act sections 835-842, is a grant program where recipients provide long-term, low-interest loans to students who attend eligible schools of nursing in programs leading to a diploma degree, an associate degree, a baccalaureate degree, or a graduate degree in nursing. These programs have a number of recordkeeping and reporting requirements for academic institutions and loan applicants. The applicable program regulations are found in 42 CFR 57.201-218 and 57.301-318. HRSA proposes revisions to the Annual Operating Report (AOR)-HRSA Form 501 completed by institutions participating in the HPSL, LDS, PCL, and NSL Programs to obtain additional information about those institutions and their student borrowers.

A 60-day notice was published in the Federal Register on September 7, 2023, vol. 88, No. 172; pp. 61602-04. There were no public comments.

There was a miscalculation of the total burden hours as previously reported in the 60-day FRN, which is updated below to properly account for the 25,080 HPSL/LDS/PCL and NSL Recordkeeping Requirement total hours that were shown but not added in the overall total. The total burden hours are now 353,059, which represents a 7.6 percent increase when compared to the total burden reported in the last ICR.

Need and Proposed Use of the Information: Participating HPSL, LDS, PCL, and NSL schools are responsible for determining the eligibility of applicants, making loans, and collecting monies owed by borrowers on their outstanding loans. Participating schools include schools that are no longer disbursing loans but are required to report and maintain program records, student records, and repayment records until all student loans are repaid in full, and all monies due to the federal government are returned. The Deferment Form, HRSA Form 519, provides the schools with documentation of a borrower's deferment status, as detailed for the HPSL Program under 42 CFR 57.210 and NSL under 42 CFR 57.310, and is included with minor revisions. The proposed revisions to the AOR are to modify the options selected for gender identification consistent with Executive Order 14075 and best practices in data collection recommended by the Office of Management and Budget. Additionally, the Deferment Form is being updated to provide specific directions for the submission requirements to notify students that the deferment request must be submitted to the institution 30 days prior to the payment due date. The institution must respond to the student 30 days after receipt of the student request.

Likely Respondents: Institutions who have received HPSL, LDS, PCL, and/or NSL Program awards.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in Table 1 below.

Table 1—Total Estimated Annualized Burden Hours
Instrument (HPSL, LDS, PCL, & NSL) | Number of respondents | Responses per respondent | Total responses | Hours per response | Total burden hours
Deferment—HRSA Form 519 | 2,060 | 1 | 2,060 | 0.500 | 1,030
AOR-HRSA—Form 501 | 726 | 1 | 726 | 12.000 | 8,712
Total | 2,786 |  | 2,786 |  | 9,742

Table 2 shows the estimated burden for schools to maintain required records on the history and status for each loan account, which is necessary to complete the forms listed in Table 1 above.

Table 2—Total Estimated Annualized Burden Hours for Recordkeeping Requirements
Data required to be submitted | Number of record keepers | Hours per year | Total burden hours
HPSL, LDS, and PCL Program:
Documentation of Cost of Attendance | 432 | 1.050 | 454
Promissory Note | 432 | 1.250 | 540
Documentation of Entrance Interview | 432 | 1.250 | 540
Documentation of Exit Interview | * 475 | 0.370 | 176
Program Records | * 475 | 10.000 | 4,750
Student Records | * 475 | 10.000 | 4,750
Repayment Records | * 475 | 19.550 | 9,286
HPSL/LDS/PCL Subtotal | 475 |  | 20,496
NSL Program:
Documentation of Cost of Attendance | 304 | 0.250 | 76
Promissory Note | 304 | 0.500 | 152
Documentation of Entrance Interview | 304 | 0.500 | 152
Documentation of Exit Interview | * 486 | 0.140 | 68
Program Records | * 486 | 5.000 | 2,430
Student Records | * 486 | 1.000 | 486
Repayment Records | * 486 | 2.510 | 1,220
NSL Subtotal | 486 |  | 4,584
* Includes active and closing schools.

Table 3 shows the estimated burden for schools to complete reporting requirements for loan records, which is necessary to complete the forms listed in Table 1 above.

| Number of respondents | Responses per respondent | Total annual responses | Hours per response | Total burden hours
HPSL, LDS, and PCL:
Student Financial Aid Transcript | 4,600 | 1.0 | 4,600 | 0.250 | 1,150
Loan Information Disclosure | 325 | 299.5 | 97,338 | 0.630 | 61,323
Entrance Interview | 325 | 139.5 | 45,338 | 0.500 | 22,669
Exit Interview | * 334 | 113.5 | 37,909 | 1.000 | 37,909
Notification of Repayment | * 334 | 862.5 | 288,075 | 0.380 | 109,469
Notification During Deferment | * 333 | 17.0 | 5,661 | 0.630 | 3,566
Notification of Delinquent Accounts | 334 | 172.5 | 57,615 | 1.250 | 72,019
Credit Bureau Notification | 334 | 6.0 | 2,004 | 0.500 | 1,002
Write-off of Uncollectable Loans | 520 | 1.0 | 520 | 3.000 | 1560
Disability Cancellation | 3 | 1.0 | 3 | 1.000 | 3
Administrative Hearings record retention | 0 | 0.0 | 0 | 0.000 | 0
Administrative Hearings reporting requirements | 0 | 0.0 | 0 | 0.000 | 0
HPSL Subtotal |  |  |  |  | 310,670
NSL:
Student Financial Aid Transcript | 4,100 | 1.0 | 4,100 | 0.250 | 1,025
Entrance Interview | 282 | 17.5 | 4,935 | 0.420 | 2,073
Exit Interview | 348 | 9.0 | 3,132 | 0.420 | 1,315
Notification of Repayment | 348 | 9.0 | 3,132 | 0.270 | 846
Notification During Deferment | 348 | 1.5 | 522 | 0.290 | 151
Notification of Delinquent Accounts | 348 | 42.5 | 14,790 | 0.040 | 592
Credit Bureau Notification | 348 | 709.0 | 246,732 | 0.006 | 1,480
Write-off of Uncollectable Loans | 23 | 1.0 | 23 | 3.000 | 69
Disability Cancellation | 16 | 1.0 | 16 | 1.000 | 16
Administrative Hearings | 0 | 0.0 | 0 | 0.000 | 0
NSL Subtotal |  |  |  |  | 7,567

Maria G. Button,
Director, Executive Secretariat.

[FR Doc. 2024-03331 Filed 2-16-24; 8:45 am]

BILLING CODE 4165-15-P